GENERAL SERVICES ADMINISTRATION

[Notice-MA-2020-10; Docket No. 2020-0002; Sequence No. 27]

Maximum Per Diem Reimbursement Rates for the Continental United States

AGENCY: Office of Government-wide Policy (OGP), General Services Administration (GSA).

ACTION: Notice of GSA Per Diem Bulletin FTR 21-01, Fiscal Year (FY) 2021 CONUS per diem reimbursement rates.

SUMMARY: The GSA FY 2021 per diem reimbursement rates review has resulted in lodging and meal allowance changes for certain locations within CONUS to provide for reimbursement of Federal employees' subsistence expenses while on official travel.

DATES: Applicability Date: This notice applies to travel performed on or after October 1, 2020, through September 30, 2021.

FOR FURTHER INFORMATION CONTACT: For clarification of content, contact Ms. Jill Denning, Program Analyst, Office of Government-wide Policy, Office of Asset and Transportation Management, at 202-208-7642, or by email at travelpolicy@gsa.gov. Please cite Notice of GSA Per Diem Bulletin FTR 21-01.

SUPPLEMENTARY INFORMATION:

Background

The CONUS per diem reimbursement rates prescribed in Bulletin 21-01 may be found at https://www.gsa.gov/perdiem. GSA bases the maximum lodging allowance rates on the average daily rate that the lodging industry reports to an independent organization. If a maximum lodging allowance rate and/or a meals and incidental expenses (M&IE) per diem reimbursement rate is insufficient to meet necessary expenses in any given location, Federal executive agencies can request that GSA review that location. Please review questions six and seven of GSA's per diem Frequently Asked Questions page at https://www.gsa.gov/perdiem for more information on the special review process. In addition, the Federal Travel Regulation (FTR) allows for actual expense reimbursement as provided in §§ 301-11.300 through 301-11.306.

For FY 2021, one new non-standard area (NSA) location was added for Albuquerque, New Mexico (Bernalillo County). The standard CONUS lodging rate will remain unchanged at $96. The M&IE reimbursement rate tiers were also unchanged for FY 2021. The standard CONUS M&IE rate remains at $55, and the M&IE NSA tiers remain at $56-$76.

Notices published periodically in the Federal Register now constitute the only notification of revisions in CONUS per diem reimbursement rates to agencies, other than the changes posted on the GSA website.

Jessica Salmoiraghi,
Associate Administrator,Office of Government-wide Policy.

[FR Doc. 2020-17938 Filed 8-14-20; 8:45 am]

BILLING CODE 6820-14-P